DEPARTMENT OF THE INTERIOR

Bureau of Land Management

[NV-050-5853-ES; N-76625]

Notice of Realty Action: Change of Use and Lease/Conveyance for Recreation and Public Purposes, Las Vegas, NV

AGENCY: Bureau of Land Management, Interior.

ACTION: Notice.

SUMMARY: The following described public land in Las Vegas, Clark County, Nevada has been examined and found suitable for change of use and lease/conveyance for recreational or public purposes under the provisions of the Recreation and Public Purposes Act, as amended (43 U.S.C. 869 et seq.). The City of Las Vegas proposes to use the land for a public park.

FOR FURTHER INFORMATION CONTACT: Anna Wharton, Supervisory Realty Specialist, (702) 515-5095.

SUPPLEMENTARY INFORMATION: This land was previously classified, segregated and leased to the Clark County Library District under BLM serial number N-66077. Federal Register notification was published on January 20, 2000. The public lands were determined suitable for Recreation and Public Purposes on March 20, 2000. The Clark County Library District lease N-66077, was relinquished on July 28, 2003. The following described public land in Las Vegas, Clark County, Nevada has been examined and found suitable for change of use and lease/conveyance for recreational or public purpose under the provisions of the Recreation and Public Purposes Act, as amended (43 U.S.C. 869 et seq.). N-76625—The City of Las Vegas proposes to use the land for a public park.

Mount Diablo Meridian

T. 19 S., R. 60 E., Sec. 29,

S½SE¼NE¼SE¼NE¼, SE¼SE¼NE¼.

Containing 11.25 acres, more or less.

The land is not required for any federal purpose. The lease/conveyance is consistent with current Bureau planning for this area and would be in the public interest. The City of Las Vegas proposes to build a low impact park that will consist of picnic areas, walking trails, open space and tot lot play areas. This land is located in the northwest sector of the Las Vegas valley and will serve citizens of all ages and abilities. The lease/patent, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

And will be subject to:

1. All valid and existing rights.

2. Those rights for public utility purposes which have been granted to Nevada Power Company by Permit No. N-77096, under the Federal Land Policy and Management Act of October 21, 1976 (FLPMA).

3. Those rights for public utility purposes which have been granted to the Las Vegas Valley Water District by permit No. N-55369, under the Federal Land Policy and Management Act of October 21, 1976 (FLPMA).

4. Those rights for public utility purposes which have been granted to the Las Vegas Valley Water District by permit No. N-66231, under the Federal Land Policy and Management Act of October 21, 1976 (FLPMA).

5. Those rights for public utility purposes which have been granted to Central Telephone by permit No. N-53652, under the Federal Land Policy and Management Act of October 21, 1976 (FLPMA).

6. Those rights for sewer purposes which have been granted to the City of Las Vegas by permit No. N-62107, under the Federal Land Policy and Management Act of October 21, 1976 FLPMA).

7. Those rights for sewer purposes which have been granted to the City of Las Vegas by permit No. N-74262, under the Federal Land Policy and Management Act of October 21, 1976 (FLPMA).

8. Those rights for natural gas pipeline purposes which have been granted to Southwest Gas Corporation by permit No. N-57864 under Sec. 28 of the Mineral Leasing Act of 1920. Detailed information concerning this action is available for review at the office of the Bureau of Land Management, Las Vegas Field Office, 4701 N. Torrey Pines Drive, Las Vegas, Nevada. The above described land remains segregated from all other forms of appropriation under the public land laws, including the general mining laws, except for lease/conveyance under the Recreation and Public Purposes Act, leasing under the mineral leasing laws and disposals under the mineral material disposal laws. Interested parties may submit comments regarding the proposed lease/conveyance to the Field Manager, Las Vegas Field Office, Las Vegas, Nevada 89130 until August 30, 2004.

Classification Comments: Since the above described lands were previously classified and segregated for Recreation and Public Purposes under lease N-66077, and published in the Federal Register on January 20, 2000, no classification comments are being taken.

Application Comments: Interested parties may submit comments regarding the specific use proposed in the application and plan of development, whether the BLM followed proper administrative procedures in reaching the decision, or any other factor not directly related to the suitability of the land for a public park facility. Any adverse comments will be reviewed by the State Director who may sustain, vacate, or modify this realty action. In the absence of any adverse comments, these realty actions will become the final determination of the Department of the Interior. The lands will not be offered for lease/conveyance until after the closure of the comment period.

Dated: May 26, 2004.
Sharon DiPinto,
Assistant Field Manager, Division of Lands, Las Vegas, NV.

[FR Doc. 04-15888 Filed 7-13-04; 8:45 am]

BILLING CODE 4310-HC-P